DEPARTMENT OF TRANSPORTATION

Office of the Secretary

Federal Aviation Administration

[Docket No. FAA-2008-0036]

RIN 2120-AF90

Policy Regarding Airport Rates and Charges; Extension of Comment Period

AGENCY: Department of Transportation, Office of the Secretary and Federal Aviation Administration.

ACTION: Notice of proposed amendment to policy statement; extension of comment period.

SUMMARY: This action extends the comment period for a proposed amendment to the “Policy Regarding the Establishment of Airport Rates and Charges” that was published on January 17, 2008. In that document, the Department of Transportation (“Department”) and the Federal Aviation Administration (FAA) proposed to amend the “Policy Regarding the Establishment of Airport Rates and Charges” published in the Federal Register on June 21, 1996 (“1996 Rates and Charges Policy”). The Department and the FAA proposed three amendments to the 1996 Rates and Charges Policy (two modifications and one clarification). These amendments are intended to provide greater flexibility to operators of congested airports to use landing fees to provide incentives to air carriers to use the airport at less congested times or to use alternate airports to meet regional air service needs. Any charges imposed on international operations must also comply with the international obligations of the United States. This extension is a result of a request from the Air Transport Association of America, Inc., the Cargo Airline Association, the National Air Carrier Association, and the Regional Airline Association on behalf of their members, to extend the comment period for thirty days.

DATES: The comment period for the Notice of proposed amendment to Policy Regarding the Establishment of Airport Rates and Charges published on January 17, 2008 (73 FR 3310) was scheduled to close on March 3, 2008, and is extended until April 3, 2008.

ADDRESSES: You may send comments identified by Docket Number, FAA-2008-0036 using any of the following methods:

• Government-wide rulemaking Web site: Go to http://www.regulations.gov and follow the instructions for sending your comments electronically.

• Mail: Docket Operations, U.S. Department of Transportation, West Building, Ground Floor, Room W12-140, Routing Symbol M-30, 1200 New Jersey Avenue, SE., Washington, DC 20590.

• Fax: 1-202-493-2251.

• Hand Delivery: To Docket Operations, Room W12-140 on the ground floor of the West Building, 1200 New Jersey Avenue, SE., Washington, DC 20590; between 9 a.m. and 5 p.m., Monday through Friday, except Federal holidays.

For more information on the notice and comment process, see the SUPPLEMENTARY INFORMATION section of this document.

Privacy: We will post all comments we receive, without change, to http://www.regulations.gov, including any personal information you provide. For more information, see the Privacy Act discussion in the SUPPLEMENTARY INFORMATION section of this document.

Docket: To read background documents or comments received, go to http://www.regulations.gov at any time or to Room W12-140 on the ground floor of the West Building, 1200 New Jersey Avenue, SE., Washington, DC, between 9 a.m. and 5 p.m., Monday through Friday, except Federal holidays.

FOR FURTHER INFORMATION CONTACT: Charles Erhard, Manager, Airport Compliance Division, AAS-400, Federal Aviation Administration, 800 Independence Avenue, SW., Washington, DC 20591, telephone (202) 267-3187; facsimile: (202) 267-5769; e-mail: charles.erhard@faa.gov.

SUPPLEMENTARY INFORMATION:

Comments Invited

Interested persons are invited to join in this notice and comment process by filing written comments, data, or views. The most helpful comments reference a specific portion of the proposal, explain the reason for any recommended change, and include supporting data. We ask that you send us two copies of written comments.

We will file in the docket all comments we receive, as well as a report summarizing each substantive public contact with Department personnel about this proposal. The docket is available for public inspection before and after the comment closing date. If you wish to review the docket in person, go to the address in the ADDRESSES section of this document between 9 a.m. and 5 p.m., Monday through Friday, except Federal holidays. You may also review the docket using the Internet at the Web address in the ADDRESSES section.

Privacy Act: Using the search function of our docket Web site, anyone can find and read the comments received into any of our dockets. This includes the name of the individual sending the comment (or signing the comment for an association, business, labor union). You may review DOT's complete Privacy Act Statement in the Federal Register published on April 11, 2000 (65 FR 19477-78) or you may visit http://www.regulations.gov.

Before acting on this proposal, we will consider all comments we receive on or before the closing the date for comments. We will consider comments filed late if it is possible to do so without incurring expense or delay. We may change this proposal because of the comments we receive.

Proprietary or Confidential Business Information

Do not file in the docket information that you consider to be proprietary or confidential business information. Send or deliver this information directly to the person identified in the FOR FURTHER INFORMATION CONTACT section of this document. You must mark the information that you consider proprietary or confidential. If you send the information on a disk or CD-ROM, mark the outside of the disk or CD-ROM and also identify electronically within the disk or CD-ROM the specific information that is proprietary or confidential.

Under 14 CFR 11.35 (b), when we are aware or proprietary information filed with a comment, we do not place it in the docket. We hold it in a separate file to which the public does not have access and place a note in the docket that we have received it. If we receive a request to examine or copy this information, we treat it as any other request under the Freedom of Information Act (5 U.S.C. 552). We process such a request under the DOT procedures found in 49 CFR part 7.

Availability of Documents

You can get an electronic copy using the Internet by:

(1) Searching the Federal eRulemaking portal (http://www.regulations.gov/search);

(2) Visiting the FAA's Regulations and Policies Web page at (http://www.faa/gov/regulations_policies); or

(3) Accessing the Government Printing Office's Web page at http://www.access.gpo.gov/su_docs/aces/aces140.html.

You can also get a copy by sending a request to the Federal Aviation Administration, Office of Rulemaking, ARM-1, 800 Independence Avenue, SW., Washington, DC 20591, or by calling (202) 267-9680. Make sure to identity the docket number, notice number, or amendment number of this proceeding.

Authority for This Proceeding

This notice is published under the authority described in Subtitle VII, Part B, Chapter 471, Section 47129 of Title 49 United States Code. Under subsection (b) of this section, the Secretary of Transportation is required to publish publishing policy statements establishing standards or guidelines the Secretary will use in determining the reasonableness of airport fees charged to airlines under Section 47129.

Background

On January 17, 2008, the Department of the FAA issued Notice of proposed amendment to the Policy Regarding the Establishment of Airport Rates and Charges Docket No. FAA-2008-0036, (73 FR 3310). Comments to that document were to be received on or before March 3, 2008.

By a letter dated January 30, 2008 the Air Transport Association of America, Inc. (ATA), the Cargo Airline Association (CAA), the National Air Carrier Association (NACA), and the Regional Airline Association (RAA), on behalf of their members, requested that the comment period for Docket 2008-0036 be extended until April 3, 2008. Industry trade groups expressed concern that critical pieces of information were missing from the January 17, 2008, notice that are essential to a full assessment of the impact of the proposed policy. The following information has been added to the docket: the list of secondary airports eligible for inclusion in the rate base (FAA Docket 2008-0036.0007.1); the list of congested airports (based on 1% of delays) (FAA Docket 2008-0036-0008.1); the list of airports from the Benchmark report (FAA Docket 2008-0036-0009.1). ATA, CAA, NACA and RAA requested an extension of the comment period by 30 days to provide sufficient time to more fully develop comments reflecting the views of the industry stakeholders.

The Department and the FAA concur with the petitioners' requests for an extension of the comment period on FAA Docket 2008-0036 and believe an additional 30 days should be adequate to provide more complete and meaningful comment.

Extension of Comment Period

In accordance with § 11.47(c) of title 14, Code of Federal Regulations, the Department of the FAA have reviewed the petitions made by the Air Transport Association of America, Inc. (ATA), the Cargo Airline Association (CAA), the National Air Carrier Association (NACA), and the Regional Airline Association (RAA), on behalf of their members, for extension of the comment period to FAA Docket 2008-0036. These petitioners have shown a substantive interest in the proposed amendment to the 1996 Policy Regarding Airport Rates and Charges and good cause for the extension. The Department and the FAA have determined that extension of the comment period is consistent with the public interest, and that good cause exists for taking this action.

Accordingly, the comment period for FAA Docket 2008-0036 is extended until April 3, 2008.

Issued in Washington, DC, on February 5, 2008.
Rebecca MacPherson,
Assistant Chief Counsel for Regulations, Federal Aviation Administration.

[FR Doc. 08-573 Filed 2-7-08; 8:45 am]

BILLING CODE 4910-13-M